DEPARTMENT OF AGRICULTURE

Office of Advocacy and Outreach

Minority Farmers and Ranchers Advisory Committee

AGENCY: Office of Advocacy and Outreach, USDA.

ACTION: Notice of public meeting.

SUMMARY: Pursuant to the Federal Advisory Committee Act (FACA), the Office of Advocacy and Outreach (OAO) is announcing a meeting of the Minority Farmers and Ranchers Advisory Committee's (MFAC). The committee is being convened to consider issues involving minorities. The members will deliberate on recommendations to be prepared for USDA Secretarial consideration.

DATES: The committee meeting is scheduled for Tuesday, May 10, 2016, at 1:00 p.m.-5:00 p.m. CST; and Wednesday, May 11, 2016, 9:00 a.m.-5:00 p.m. CST; and, Thursday, May 12, 2016, from 9:00 a.m.-5:00 p.m. CST. The meeting will be open to the public. All persons wishing to make comments during this meeting must check in between 1:00 p.m. and 2:00 p.m. CST each day at the registration table. All public commenters will be allowed a maximum of five minutes. If the number of registrants requesting to speak is greater than what can be reasonably accommodated during the scheduled open public meeting timeframe, speakers will be scheduled on a first-come basis. Public written comments for the committee's consideration may be submitted by close of business on May 6, 2016, to Mrs. Kenya Nicholas, Designated Federal Official, USDA OAO, 1400 Independence Avenue SW., Room 520-A, Washington, DC 20250-0170, Phone (202) 720-6350, Fax (202) 720-7704, Email: acmf@osec.usda.gov. A listen-only line will be available during the entire meeting for all who wish to listen to the meeting or make public comments through the following telephone number: (888) 455-1685 and enter passcode 4225205. Members of the public may also submit written comments for consideration to the committee.

ADDRESSES: This public advisory committee meeting will be held at the Renaissance New Orleans Arts Hotel, 700 Tchoupitoulas Street, New Orleans, LA, 70130-3612, (504) 613-2330. There will also be signs directing attendees to the USDA meeting rooms.

FOR FURTHER INFORMATION CONTACT: Questions should be directed to Phyllis Morgan, Executive Assistant, OAO, 1400 Independence Ave. SW., Whitten Bldg., 520-A, Washington, DC 20250, Phone: (202) 720-6350, Fax: (202) 720-7136, email: Phyllis.Morgan@osec.usda.gov.

SUPPLEMENTARY INFORMATION: The Secretary tasked the MFAC with providing recommendations on access to USDA programs and services by minority farmers and ranchers. Please visit our Web site at: http://www.outreach.usda.gov/sdfr/FAC.htm for additional information on the MFAC.

The public is asked to pre-register for the meeting by midnight May 4, 2016. You may pre-register for the public meeting by submitting an email to acmf@osec.usda.gov with your name, organization or affiliation, or any comments for the committee's consideration. You may also fax this information to (202) 720-7704. Members of the public who wish to make comments during the committee meeting must register at the check-in table.

The agenda is as follows: Day 1: Committee discussions (International Trade Opportunities and Sustainability of Renewable Energy), USDA presentations and public comments;

Day 2: Committee discussions, public comments. Day 3: Committee deliberations and public comment. Please visit the Minority Farmers and Ranchers Advisory Committee Web site for the full agenda. All agenda topics and documents will be made available to the public prior to the meeting at: http://www.outreach.usda.gov/sdfr/FAC.htm. Copies of the agenda will also be distributed at the meeting.

Meeting Accommodations: USDA is committed to ensuring that everyone is accommodated in our work environment, programs, and events. If you are a person with a disability and request reasonable accommodations to participate in this meeting, please note the request in your registration and you may contact Mrs. Kenya Nicholas in advance of the meeting by or before close of business on May 4, 2016, by phone at (202) 720-6350, fax (202) 720-7704, or email: kenya.nicholas@osec.usda.gov.

Issued in Washington, DC, this 13th day of April 2016.
Christian Obineme,
Associate Director, Office of Advocacy and Outreach.

[FR Doc. 2016-08932 Filed 4-18-16; 8:45 am]

BILLING CODE 3412-89-P